DEPARTMENT OF EDUCATION

Notice of Proposed Information Collection Requests

AGENCY: Department of Education.

ACTION: Correction Notice.

SUMMARY: On August 5, 2005, the Department of Education published a notice in the Federal Register (Page 45372, Column 2) for the information collection, “Program for International Student Assessment (PISA).” Because of a 60-day comment period waiver by the Office of Management and Budget (OMB), the 60-day comment period is hereby corrected to 30 days. Interested persons are invited to submit their comments by September 9, 2005. The Leader, Information Management Case Services Team, Regulatory Information Management Services, Office of the Chief Information Officer, hereby issues a correction notice as required by the Paperwork Reduction Act of 1995.

Dated: August 5, 2005.
Angela C. Arrington,
Information Management Case Services Team, Regulatory Information Management Services, Office of the Chief Information Officer.

[FR Doc. 05-15810 Filed 8-9-05; 8:45 am]

BILLING CODE 4000-01-P